DEPARTMENT OF ENERGY

Federal Energy Regulatory Commission

Combined Notice of Filings #1

Take notice that the Commission received the following electric corporate filings:

Docket Numbers: EC17-187-000.

Applicants: Westwood Generation, LLC.

Description: Application for Authorization Under Section 203 of the Federal Power Act of Westwood Generation, LLC.

Filed Date: 9/22/17.

Accession Number: 20170922-5033.

Comments Due: 5 p.m. ET 10/13/17.

Take notice that the Commission received the following electric rate filings:

Docket Numbers: ER17-1721-003.

Applicants: Dynegy Stuart, LLC.

Description: Tariff Amendment: Superseded Revised Rate Schedule to be effective 8/1/2017.

Filed Date: 9/20/17.

Accession Number: 20170920-5180.

Comments Due: 5 p.m. ET 10/11/17.

Docket Numbers: ER17-2536-000.

Applicants: Pacific Gas and Electric Company.

Description: § 205(d) Rate Filing: Port of Oakland Unexecuted IA (SA 347) to be effective 11/22/2017.

Filed Date: 9/22/17.

Accession Number: 20170922-5001.

Comments Due: 5 p.m. ET 10/13/17.

Docket Numbers: ER17-2537-000.

Applicants: Southwest Power Pool, Inc.

Description: § 205(d) Rate Filing: 1876R5 KEPCO NITSA to be effective 9/1/2017.

Filed Date: 9/22/17.

Accession Number: 20170922-5031.

Comments Due: 5 p.m. ET 10/13/17.

Docket Numbers: ER17-2538-000.

Applicants: AEP Generation Resources Inc.

Description: § 205(d) Rate Filing: AEP GR Stuart Station Unit 1 Reactive Filing RS3 to be effective 10/1/2017.

Filed Date: 9/22/17.

Accession Number: 20170922-5047.

Comments Due: 5 p.m. ET 10/13/17.

Docket Numbers: ER17-2539-000.

Applicants: NSTAR Electric Company.

Description: Tariff Cancellation: Notice of Cancellation of Belmont Transmission Service Agreement to be effective 9/30/2017.

Filed Date: 9/22/17.

Accession Number: 20170922-5056.

Comments Due: 5 p.m. ET 10/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2017.
Nathaniel J. Davis, Sr.,
Deputy Secretary.

[FR Doc. 2017-20995 Filed 9-29-17; 8:45 am]

BILLING CODE 6717-01-P